DEPARTMENT OF HEALTH AND HUMAN SERVICES

Centers for Disease Control and Prevention

Disease, Disability, and Injury Prevention and Control Special Emphasis Panel (SEP)—RFA-IP23-001, Public Health Epidemiology, Prevention and Control of Influenza and Other Respiratory Pathogens in China, RFA-IP23-004, Developing, Implementing, and Evaluating Protocols To Increase Routine Adult Immunization Coverage Among Persons Who Are Incarcerated, and RFA-IP23-005, Approach to Adult Vaccine Counseling; Amended Notice of Closed Meeting

Notice is hereby given of a change in the meeting of the Disease, Disability, and Injury Prevention and Control Special Emphasis Panel (SEP)—RFA-IP23-001, Public Health Epidemiology, Prevention and Control of Influenza and Other Respiratory Pathogens in China, RFA-IP23-004, Developing, Implementing, and Evaluating Protocols to Increase Routine Adult Immunization Coverage Among Persons Who are Incarcerated, and RFA-IP23-005, Approach to Adult Vaccine Counseling; April 11-12, 2023, 10 a.m.-5 p.m. EDT, Teleconference, Centers for Disease Control and Prevention, Room 1077, 8 Corporate Boulevard, Atlanta, Georgia 30329 in the original FRN. The meeting was published in the Federal Register on January 11, 2023, Volume 88, Number 7, page 1584.

The meeting is being amended to remove the second day and should read as follows:

Date: April 11, 2023.

Time: 10 a.m.-5 p.m. (EDT).

Place: Teleconference, Centers for Disease Control and Prevention, Room 1077, 8 Corporate Blvd., Atlanta, GA 30329.

The meeting is closed to the public.

For Further Information Contact: Gregory Anderson, M.S., M.P.H., Scientific Review Officer, National Center for HIV, Viral Hepatitis, STD, and TB Prevention, CDC, 1600 Clifton Road NE, Mailstop US8-1, Atlanta, Georgia 30329-4027; Telephone: (404) 718-8833; Email: GAnderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-02965 Filed 2-10-23; 8:45 am]

BILLING CODE 4163-18-P